DEPARTMENT OF JUSTICE

Notice of Lodging of Consent Decrees Under the Comprehensive Environmental Response, Compensation and Liability Act

Under 28 CFR 50.7, notice is hereby given that on April 8, 2011, four proposed consent decrees signed by defendants Arch Coal, Inc., K&M Investors, Inc., Momentive Specialty Chemicals, Inc., and SWEPI LP were lodged in the civil action United States v. Arch Coal, Inc., et al., Civil Action No. 1:11-cv-00055, in the United States District Court for the Eastern District of Missouri, Southeastern Division.

In this action the United States is seeking response costs pursuant to Section 107 of the Comprehensive Environmental Response, Compensation and Liability Act (“CERCLA”), 42 U.S.C. 9607, for costs incurred in response to releases of hazardous substances at the Missouri Electric Works Superfund Site (“the Site”), in Cape Girardieu, Missouri. The proposed consent decrees will resolve the United States' claims against the four defendants under Section 107 of CERCLA, 42 U.S.C. 9607, at the Site. Under the terms of the proposed consent decree, the defendants will make the following cash payments to the United States:

Arch Coal, $21,850.58; K&M Investors, $89,569.12; Momentive Specialty Chemicals, $2,441.70; and SWEPI, $31,167.05. In return, the United States will grant all four defendants covenants not to sue under CERCLA with respect to the Site. The Department of Justice will receive for a period of thirty (30) days after the date of this publication comments relating to the proposed consent decrees. Comments should be addressed to the Assistant Attorney General, Environment and Natural Resources Division, P.O. Box 7611, U.S. Department of Justice, Washington, DC 20044-7611, and should refer to the proposed consent decrees with defendants Arch Coal, K&M Investors, Momentive Specialty Chemicals, and SWEPI in United States v. Arch Coal, Inc., et al., D.J. Ref. 90-11-2-614/3.

The proposed consent decrees may be examined at the office of the United States Attorney, 111 S. 10th Street, 20th Floor, St. Louis, Missouri 63102. During the public comment period, the Consent Decrees may be examined on the following Department of Justice Web site: http://www.usdoj.gov/enrd/Consent_Decrees.html and at the Consent Decree Library, P. O. Box 7611, U.S. Department of Justice, Washington, DC 20044-7611 or by faxing a request to Tonia Fleetwood, fax no. (202) 514-0097, phone confirmation number (202) 514-1547. In requesting a copy please refer to the referenced case and enclose a check in the amount of $18.00 (25 cents per page reproduction costs), payable to the U.S. Treasury.

Public comments may be submitted by email to the following e-mail address: pubcomment-ees.enrd@usdoj.gov.

Robert E. Maher, Jr.,
Assistant Section Chief, Environmental Enforcement Section, Environment and Natural Resources Division.

[FR Doc. 2011-8967 Filed 4-13-11; 8:45 am]

BILLING CODE 4410-15-P